DEPARTMENT OF HOUSING AND URBAN DEVELOPMENT

[Docket No. FR-4912-N-08]

Notice of Availability of Draft Environmental Impact Statement / Environmental Impact Report for the Marysville Hotel Demolition Project, City of Marysville, CA

AGENCY: Office of the Assistant Secretary for Community Planning and Development, HUD.

ACTION: Notice.

SUMMARY: HUD gives notice to the public, agencies, and Indian tribes that the City of Marysville, CA, has prepared a Draft Environmental Impact Statement (EIS)/Environmental Impact Report (EIR) (EIS/EIR) for the Marysville Hotel Demolition Project located in Marysville, CA. The City of Marysville, CA, has prepared the draft EIS/EIR acting under its authority as the responsible entity for compliance with the National Environmental Policy Act (NEPA) in accordance with 42 U.S.C. 5304(g) and HUD regulations at 24 CFR 58.4, and under its authority as lead agency in accordance with the California Environmental Quality Act (CEQA). The draft EIS/EIR is a joint NEPA and CEQA document. The EIR will satisfy requirements of the CEQA (Public Resources Code 21000 et seq.) and State CEQA Guidelines (14 California Code of Regulations 15000 et seq.), which require that all state and local government agencies consider the environmental consequences of projects over which they have discretionary authority before acting on those projects. Because federal Community Development Block Grant (CDBG) funds (under Title I of the Housing and Community Development Act of 1974) would be used, the proposed action is also subject to NEPA. This notice is given in accordance with the Council on Environmental Quality regulations at 40 CFR parts 1500-1508. All interested federal, state, and local agencies, Indian tribes, groups, and the public are invited to comment on the draft EIS.

DATES: Comments Due Date: July 12, 2004. Comments are to be submitted to Gary Price, Community Development Coordinator at the below address.

ADDRESSES: Copies for review by the public will be available at the Yuba County Library at 303 Second Street, Marysville, CA. Copies of the document may be obtained from Copy City at 515 D Street, Marysville, phone (530) 743-8400, for the cost of reproduction.

FOR FURTHER INFORMATION CONTACT: Gary Price, Community Development Coordinator, City of Marysville Planning Department, PO Box 150, Marysville, CA 95901; telephone (530) 749-3902, Fax (530) 749-3991.

SUPPLEMENTARY INFORMATION: This notice seeks public input on issues that are addressed in the draft EIS/EIR and solicits input from potentially affected agencies and interested parties regarding the scope and content of the EIS/EIR. The Final EIS/EIR will be published and distributed after completion of the public comment period for the Draft EIS/EIS.

The proposed project site is the Marysville Hotel. The Marysville Hotel is located in the central business district of downtown Marysville on an approximately .5 acre lot at the northwest corner of the block bounded by 5th Street to the north, D Street to the east, 4th Street to the south, and E Street to the west. The site address is 418 5th Street (APN: 010-176-014-000). The City's Redevelopment Plan and General Plan both call for the removal of blight from the downtown area and the redevelopment of buildings for commercial or mixed uses whenever possible. The purpose of this project is to remove a source of blight to improve the appearance of the downtown core and to redevelop the area either for parking or for mixed uses.

This environmental impact statement/environmental impact report (EIS/EIR) analyzes the environmental effects of the proposed Marysville Hotel Demolition Project (specifically Alternatives 1-3 and the No Project/No Action Alternative), and indicates ways to reduce or avoid potential environmental damage resulting from the project. As required, this EIS/EIR also discloses significant environmental effects that cannot be avoided, growth-inducing effects, effects found not to be significant, and significant cumulative impacts.

The following alternatives are considered:

• Alternative 1 (the proposed action): Demolition. The Marysville Hotel would be demolished.

• Alternative 2: Reuse for Mixed Commercial/Residential Use. The Marysville Hotel would be refurbished for reuse with commercial and residential uses.

• Alternative 3: Reuse for Commercial/Senior Affordable Housing. The Marysville Hotel would be refurbished for reuse with commercial and senior affordable housing uses.

• No Project—No Action. No action would be taken and the hotel would remain in its current condition.

The draft EIS/EIR addresses the following environmental issues: air quality, cultural resources, flood hazard, noise, toxics, traffic, land use and environmental justice.

Questions may be directed to the individual named in this notice under the heading FOR FURTHER INFORMATION CONTACT.

Dated: May 20, 2004.
Roy A. Bernardi,
Assistant Secretary for Community Planning and Development.

[FR Doc. 04-12088 Filed 5-27-04; 8:45 am]

BILLING CODE 4210-29-P